FEDERAL COMMUNICATIONS COMMISSION

[OMB 3060-XXXX, FR No. 17102]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before December 14, 2020. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA of 1995 (44 U.S.C. 3501-3520), the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control No.: 3060-XXXX.

Title: 3.7 GHz Service Licensee and Earth Station Operator Agreements; 3.7 GHz Service Licensee Engineering Analysis.

Form No.: N/A.

Type of Review: New collection.

Respondents: Business or other for-profit entities; not-for-profit institutions; State, Local or Tribal Government.

Number of Respondents and Responses: 30 respondents and 30 responses.

Estimated Time per Response: 2 hours-5 hours.

Frequency of Response: Recordkeeping requirement; on occasion reporting requirement; third party disclosure requirement.

Obligation to Respond: Required to obtain or retain benefits. The statutory authority for this collection of information is contained in sections 1, 2, 4(i), 4(j), 5(c), 201, 302, 303, 304, 307(e), 309, and 316 of the Communications Act of 1934, as amended, 47 U.S.C. 151, 152, 154(i), 154(j), 155(c), 201, 302, 303, 304, 307(e), 309, and 316.

Total Annual Burden: 120 hours.

Annual Cost Burden: No cost.

Privacy Act Impact Assessment: No impact(s).

Nature and Extent of Confidentiality: The information collected under this collection will be made publicly available. However, to the extent information submitted pursuant to this information collection is determined to be confidential, it will be protected by the Commission. If a respondent seeks to have information collected pursuant to this information collection withheld from public inspection, the respondent may request confidential treatment pursuant to section 0.459 of the Commission's rules for such information.

Needs and Uses: On February 28, 2020, in furtherance of the goal of releasing more mid-band spectrum into the market to support and enabling next-generation wireless networks, the Commission adopted a Report and Order, FCC 20-22, (3.7 GHz Report and Order), in which it reformed the use of the 3.7-4.2 GHz band, also known as the C-band. Currently, the 3.7-4.2 GHz band is allocated in the United States exclusively for non-Federal use on a primary basis for Fixed Satellite Service (FSS) and Fixed Service. The 3.7 GHz Report and Order calls for the relocation of existing FSS operations in the band into the upper 200 megahertz of the band (4.0-4.2 GHz) and making the lower 280 megahertz (3.7-3.98 GHz) available for flexible use throughout the contiguous United States through a Commission-administered public auction of overlay licenses that is scheduled to occur later this year.

The Commission concluded in the 3.7 GHz Report and Order that, once this transition is complete, coordination measures are needed to protect incumbent C-band operations in the upper portion of the 3.7-4.2 GHz band. 3.7 GHz Service licensees are required to comply with certain technical rules and coordination practices designed to reduce the risk of interference to incumbent operations. Specifically, 3.7 GHz Service licensees are required to comply with specific power flux density (PFD) limits to protect incumbent earth stations from out-of-band emissions and blocking and to coordinate frequency usage with incumbent Telemetry, Tracking, and Command (TT&C) earth stations. The 3.7 GHz Report and Order allows 3.7 GHz Service licensees and C-Band earth station operators to modify these PFD limits, but it requires a 3.7 GHz Service licensee that is a party to such an agreement to maintain a copy of the agreement in its station files and disclose it, upon request, to prospective license assignees, transferees, or spectrum lessees, and to the Commission. The Commission also required any 3.7 GHz Service licensee with base stations located within the appropriate coordination distance to provide upon request an engineering analysis to the TT&C operator to demonstrate their ability to comply with the applicable −6 dB I/N criteria.

The information that will be collected under this new information collection is designed to ensure that 3.7 GHz Service licensees operate in a manner that ensures incumbent C-band operations in the upper portion of the 3.7-4.2 GHz band and TT&C operations in the 3700-3980 MHz band are protected. By requiring 3.7 GHz Service licensees to provide a copy of any private agreement with 3.7 GHz earth station operators to prospective license assignees, transferees, or spectrum lessees, and to the Commission, the Commission ensures that such agreements continue to protect incumbent C-band operations in the event a 3.7 GHz service license is subsequently transferred to a new licensee. This collection promotes the safety of operations in the band and reduces the risk of harmful interference to incumbents. It also ensures that relevant stakeholders have access to coordination agreements between 3.7 GHz Service licensees and entities operating earth stations or TT&C operations.

The information provided by the 3.7 GHz Service licensee to the TT&C operator ensures the protection of TT&C operations. The information collection will facilitate an efficient and safe transition by requiring 3.7 GHz Service licensees to demonstrate their ability to comply with the −6 dB I/N criteria, thereby minimizing the risk of interference.

Federal Communications Commission.
Marlene Dortch,
Secretary.

[FR Doc. 2020-22479 Filed 10-9-20; 8:45 am]

BILLING CODE 6712-01-P